DEPARTMENT OF TRANSPORTATION

National Highway Traffic Safety Administration

[Docket No.: NHTSA-2025-0226]

Motorcyclist Advisory Council

AGENCY: National Highway Traffic Safety Administration (NHTSA), U.S. Department of Transportation (DOT).

ACTION: Notice; solicitation of nominations for membership.

SUMMARY: The Department solicits nominations for membership to serve on the Motorcyclist Advisory Council (MAC), which is intended to coordinate with and advise the Secretary of Transportation, the NHTSA Administrator, and the Federal Highway Administration Administrator on transportation issues of concern to motorcyclists, including motorcycle and motorcyclist safety; barrier and road design, construction, and maintenance practices; and the architecture and implementation of intelligent transportation system technologies.

DATES: The deadline for nominations for Council members must be received on or before October 20, 2025.

ADDRESSES: All nomination materials should refer to the docket number above and be submitted by one of the following methods:

• Federal Rulemaking Portal: https://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal holidays.

FOR FURTHER INFORMATION CONTACT: LaCheryl E. Jones, Highway Safety Specialist, Office of Safety Programs, Office of Research and Program Development, National Highway Traffic Safety Administration, U.S. Department of Transportation, lacheryl.jones@dot.gov or (202) 774-8308. All Council-related questions should be sent to the person listed in this section.

SUPPLEMENTARY INFORMATION: MAC is an advisory committee established by the Secretary of Transportation on September 19, 2023 in accordance with 49 U.S.C. 355, and it is operated in accordance with the Federal Advisory Committee Act, 5 U.S.C. ch. 10. The purpose of MAC is to advise on transportation safety issues of concern to motorcyclists, including:

1. Motorcycle and motorcyclist safety;

2. Barrier and road design, construction, and maintenance practices; and

3. The architecture and implementation of intelligent transportation system technologies.

In particular, MAC will:

1. Provide advice on transportation safety issues of concern to motorcyclists consistent with the statutorily specified advising duties;

2. Provide a forum for the development, consideration, and communication of information from a knowledgeable and independent perspective; and

3. Not less than once every 2 years, submit to the Secretary a report containing recommendations of the Council regarding (a.) motorcycle and motorcyclist safety; (b.) barrier and road design, construction, and maintenance practices; and (c.) the architecture and implementation of intelligent transportation system technologies.

The Council will terminate on September 19, 2029 and is subject to renewal every two years. The Council is expected to meet twice a Federal fiscal year. Unless otherwise required by law or approved by the Secretary, all meetings will be held virtually. In this notice, the Department is soliciting nominations for membership to the Council. The Council shall report to the Secretary through the NHTSA Administrator. The Council comprises 13 members, representing the following groups:

1. Five (5) shall be representatives of units of State or local government with expertise relating to highway engineering and safety issues, including—

a. Motorcycle and motorcyclist safety;

b. Barrier and road design, construction, and maintenance; or

c. Intelligent transportation systems;

2. One (1) shall be a motorcyclist who serves as a State or local—

a. Traffic and safety engineer;

b. Design engineer; or

c. Other transportation department official;

3. One (1) shall be a representative of a national association of State transportation officials;

4. One (1) shall be a representative of a national motorcyclist association;

5. One (1) shall be a representative of a national motorcyclist foundation;

6. One (1) shall be a representative of a national motorcycle manufacturing association;

7. One (1) shall be a representative of a motorcycle manufacturing company headquartered in the United States;

8. One (1) shall be a roadway safety data expert with expertise relating to crash testing and analysis; and

9. One (1) shall be a member of a national safety organization that represents the traffic safety systems industry. 49 U.S.C. 355(b)(1).

Members are appointed by the Secretary of Transportation for a single term of 2 years. Past members of the Council are welcome to apply. The Department is interested in ensuring membership is balanced fairly in terms of the points of view represented and the functions to be performed by the Council.

Process and Deadline for Submitting Nominations: Qualified individuals can self-nominate or be nominated by any individual or organization. To be considered for MAC, applicants should submit the following information:

(1) Name, title, and relevant contact information (including phone, fax, and email address) of the individual requesting consideration;

(2) A letter of support from a company, union, trade association, academic, or nonprofit organization on letterhead containing a brief description why the nominee should be considered for membership;

(3) A short biography of the nominee, including professional and academic credentials; and

(4) An affirmative statement that the nominee meets all Council eligibility requirements.

Please do not send company, trade association, or organization brochures or any other information. Materials submitted should total two pages or less. Should more information be needed, DOT staff will contact the nominee, obtain information from the nominee's past affiliations, or obtain information from publicly available sources, such as the internet.

Nominations must be received before October 20, 2025. Nominees selected for appointment to the Council will be notified by email and a letter of appointment.

Issued in Washington, DC.
Jane Terry,
Acting Associate Administrator, Research and Program Development.

[FR Doc. 2025-18097 Filed 9-17-25; 8:45 am]

BILLING CODE 4910-59-P